DEPARTMENT OF DEFENSE

Department of the Army, Corps of Engineers

[Permit No. NAN-2020-01079]

Notice of Final Federal Agency Action on the Authorization for the South Fork Wind Energy Project Offshore New York and Rhode Island

AGENCY: Department of the Army, U.S. Army Corps of Engineers, DoD.

ACTION: Notice of limitation on claims for judicial review of actions by the U.S. Army Corps of Engineers (USACE).

SUMMARY: USACE announces final agency action on the USACE authorization for the proposed construction and maintenance of the South Fork Wind project offshore New York and Rhode Island. USACE has issued a permit authorizing the construction and maintenance of the South Fork Wind project under section 10 of the Rivers and Harbors Act of 1899 (RHA), section 404 of the Clean Water Act (CWA). The South Fork Wind project is a “covered project” under Title 41 of the Fixing America's Surface Transportation Act.

DATES: A claim seeking judicial review of the USACE authorization of construction and maintenance of the South Fork Wind project will be barred unless the claim is filed not later than two years after this notice's publication date. If the Federal law that allows for judicial review of the USACE authorization specifies a shorter time period for filing such a claim, then that shorter time period will apply.

FOR FURTHER INFORMATION CONTACT: Mr. Christopher Minck, Regulatory Project Manager, Regulatory Branch, USACE, New York District, 26 Federal Plaza, New York, New York 10278, (917) 790-8511 or cenan.publicnotice@usace.army.mil.

SUPPLEMENTARY INFORMATION: Notice is hereby given that USACE has taken final agency action on its authorization for the proposed South Fork Wind project by issuing a permit authorizing construction and maintenance of the project under section 10 of the RHA and section 404 of the CWA. The majority of the authorized work will occur in the Atlantic Ocean within Bureau of Ocean Energy Management (BOEM) Renewable Energy Lease Area OCS-0517, which is approximately 19 miles southeast of Block Island, Rhode Island, and 35 miles east of Montauk Point, New York.

The work authorized under the USACE permit includes the following: (1) installation of up to twelve (12) wind turbine generators (WTGs) and one (1) offshore substation (OSS) with associated scour protection, (2) installation of approximately 21.4 miles of inter-array cables connecting the WTGs and the OSS with associated secondary cable protection, (3) installation of an export transmission cable with associated secondary cable protection within an approximately 61.66 mile long offshore export cable corridor extending from the lease area to the cable landfall location in Wainscott, New York, and (4) construction of an Operations and Maintenance Facility in Lake Montauk in Montauk, New York.

The USACE's decision to issue a permit for the South Fork Wind project, and the laws under which the action was taken, are described in the South Fork Wind Final Environmental Impact Statement (FEIS) published by BOEM on August 16, 2021, in the BOEM Record of Decision (ROD) issued on November 24, 2021, and in other project records. The FEIS, ROD, and other documents can be viewed and downloaded from the BOEM project website at https://www.boem.gov/renewable-energy/state-activities/south-fork. The USACE permit can be viewed and downloaded from the USACE website at https://www.nan.usace.army.mil/Missions/Regulatory/Commonly-Requested-Issued-Permits-and-Nationwide-Permit-Verifications/. By this notice, USACE is advising the public of final agency action subject to 42 U.S.C. 4370m-6(a)(1)(A).

Authority: 42 U.S.C. 4370m-6(a)(1)(A).

John P. Lloyd,
Brigadier General, USA, Commanding.

[FR Doc. 2024-07467 Filed 4-8-24; 8:45 am]

BILLING CODE 3720-58-P